TENNESSEE VALLEY AUTHORITY

Agency Information Collection Activities: Proposed Collection; Comment Request

AGENCY: Tennessee Valley Authority.

ACTION: 30-Day notice of submission of information collection approval and request for comments.

SUMMARY: This is a request for reinstatement of the Land Use Survey Questionnaire—Vicinity of Nuclear Power Plants (OMB No. 3316-0016) for which approval has expired. The information collection described below will be submitted to the Office of Management and Budget (OMB) at, oira_submission@omb.eop.gov, for review, as required by the Paperwork Reduction Act of 1995. The Tennessee Valley Authority is soliciting public comments on this proposed collection.

DATES: Comments should be sent to the TVA Senior Privacy Program Manager and the OMB Office of Information & Regulatory Affairs, Attention: Desk Officer for Tennessee Valley Authority, Washington, DC 20503, or email: oira_submission@omb.eop.gov, no later than July 11, 2019.

ADDRESSES: Requests for information, including copies of the information collection proposed and supporting documentation, should be directed to the Senior Privacy Program Manager: Christopher A. Marsalis, Tennessee Valley Authority, 400 W Summit Hill Dr. (WT 5D), Knoxville, Tennessee 37902-1401; telephone (865) 632-2467 or by email at camarsalis@tva.gov.

SUPPLEMENTARY INFORMATION:

Type of Request: Reinstatement of a previously approved collection for which approval has expired.

Title of Information Collection: Land Use Survey Questionnaire—Vicinity of Nuclear Power Plants.

OMB Approval Number: 3316-0016.

Frequency of Use: Annual.

Type of Affected Public: Individuals or households, farms and business and other for-profit.

Small Businesses or Organizations Affected: Yes.

Federal Budget Functional Category Code: 271.

Estimated Number of Annual Responses: 150.

Estimated Total Annual Burden Hours: 75.

Estimated Average Burden Hours per Response: .5.

Need For and Use of Information: This survey is used to locate, for monitoring purposes, rural residents, home gardens, and milk animals within a five mile radius of a nuclear power plant. The monitoring program is a mandatory requirement of the Nuclear Regulatory Commission set out in the technical specifications when the plants were licensed.

Andrea S. Brackett,
Director, TVA Cybersecurity.

[FR Doc. 2019-12272 Filed 6-10-19; 8:45 am]

BILLING CODE 8120-08-P